DEPARTMENT OF EDUCATION

[Docket No.: ED-2014-ICCD-0008]

Agency Information Collection Activities; Comment Request; Charter School Authorizer Annual Update

AGENCY: Office of Innovation and Improvement (OII), Department of Education (ED).

ACTION: Notice.

SUMMARY: In accordance with the Paperwork Reduction Act of 1995 (44 U.S.C. chapter 3501 et seq.), ED is proposing an extension of an existing information collection.

DATES: Interested persons are invited to submit comments on or before April 1, 2014.

ADDRESSES: Comments submitted in response to this notice should be submitted electronically through the Federal eRulemaking Portal at http://www.regulations.gov by selecting Docket ID number ED-2014-ICCD-0008 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For questions related to collection activities or burden, please call Tomakie Washington, 202-401-1097 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Charter School Authorizer Annual Update.

OMB Control Number: 1855-0023.

Type of Review: An extension of an existing information collection.

Respondents/Affected Public: State, Local, or Tribal Governments.

Total Estimated Number of Annual Responses: 90.

Total Estimated Number of Annual Burden Hours: 2,025.

Abstract: The U.S. Department of Education (ED) has as one of its important policy goals expanding the number of high-quality public school choice options. Specifically, according to Part B section 5201 of the Elementary and Secondary Education Act, two of the established purposes of the

Charter School Program office are: evaluating the effects of charter schools, including the effects on students, student academic achievement, staff and parents, and expanding the number of high-quality charter schools available to students across the nation.

Charter school authorization is at the very crux of any efforts to expand and ensure high-quality public school choice options through public charter schools because charter school authorizers are the public entities primarily responsible for: initial charter authorizations, on-going monitoring and oversight, and charter renewal and closure decisions.

Currently, there is no other comprehensive national database of the roughly 900 charter school authorizers complete with the schools under their authority; some of these data elements are available from public documents, but they are not made available to the public consistently across all authorizers. There is also no other comprehensive, fully-populated tool for tracking the activities of and evaluating the quality of authorizers nationwide based on their authorizing decisions in light of schools performance. This data collection will be administered to the all charter school authorizers.

Dated: January 27, 2014.
Tomakie Washington,
Acting Director, Information Collection Clearance Division, Privacy, Information and Records Management Services, Office of Management.

[FR Doc. 2014-01943 Filed 1-30-14; 8:45 am]

BILLING CODE 4000-01-P